NATIONAL SCIENCE FOUNDATION

Notice of Permit Applications Received Under the Antarctic Conservation Act of 1978 (Pub. L. 95-541)

AGENCY: National Science Foundation.

ACTION: Notice of Permit Applications Received under the Antarctic Conservation Act of 1978, Pub. L. 95-541.

SUMMARY: The National Science Foundation (NSF) is required to publish notice of permit applications received to conduct activities regulated under the Antarctic Conservation Act of 1978. NSF has published regulations under the Antarctic Conservation Act as Title 45 Part 670 of the Code of Federal Regulations. This is the required notice to permit applications received.

DATES: Interested parties are invited to submit written data, comments, or view with respect to this permit application by November 19, 2004. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application No. 2005-016

1. Applicant: Julie Rose, 3616 Trousdale Parkway, AHF 301, Los Angeles, CA 90089-0371.

Activity for Which Permit is Requested: Introduce a non-indigenous species to Antarctica. The applicant proposes to use marine phytoplankton cultures and non-fluorescent marine bacterial cultures to study the feeding rates of Antarctic protistan grazers. Marine phytoplankton samples will be collected during the course of the cruise and the samples will be taken back to the United States for further study.

Location: Southern Oceans south of 60 degrees South, and Ross Sea.

Dates: December 1, 2004 to February 1, 2005.

Nadene G. Kennedy,
Permit Officer, Office of Polar Programs.

[FR Doc. 04-23466 Filed 10-19-04; 8:45 am]

BILLING CODE 7555-01-M